TENNESSEE VALLEY AUTHORITY

Operating License Renewal of the Browns Ferry Nuclear Plant in Athens, AL

AGENCY: Tennessee Valley Authority (TVA).

ACTION: Issuance of Record of Decision.

SUMMARY: This notice is provided in accordance with the Council on Environmental Quality's regulations (40 CFR parts 1500 to 1508) and TVA's procedures implementing the National Environmental Policy Act. On May 16, 2002, the TVA Board of Directors decided to adopt the preferred alternative (Refurbishment and Restart of Unit 1 With Extended Operation Of All Units) identified in TVA's Final Supplemental Environmental Impact Statement (FSEIS), Operating License Renewal Of The Browns Ferry Nuclear Plant In Athens, Alabama.

The FSEIS was made available to agencies and the public for additional comment in April 2002. A Notice of Availability of the FSEIS was published in the Federal Register on April 5, 2002. Under the selected alternative, in response to increasing demand for bulk power, TVA seeks to maximize the use of existing facilities to the greatest extent possible. This approach has the three-fold benefits of assuring future power supplies, avoiding the even larger capital outlays associated with new construction, and avoiding the environmental impacts resulting from siting and construction of new power generating facilities. Consistent with this approach, TVA has decided to seek to extend operation of Units 1, 2 and 3 of its Browns Ferry Nuclear Plant (BFN) located in Limestone County, Alabama. This will require obtaining a renewal of operating licenses for the units from the Nuclear Regulatory Commission (NRC). Renewal of the operating licenses would permit operation for an additional twenty years past the current (original) 40-year operating license terms which expire in 2013, 2014, and 2016 for Units 1, 2, and 3, respectively.

License Renewal by itself involves existing BFN facilities and does not require any new construction or modifications beyond normal maintenance and minor refurbishment. However, there are other proposed projects not directly related to license renewal that are connected to, or could affect, license renewal. One of these projects is the recovery of Unit 1, which has been in a non-operational state for 17 years. Other projects include the addition of new administration and modifications fabrication buildings and the construction of a dry cask storage facility for storage of spent nuclear fuel. Even without license renewal or Unit 1 restart, BFN requires expansion of its spent fuel storage capacity in 2005.

FOR FURTHER INFORMATION CONTACT: Bruce L. Yeager, Senior NEPA Specialist, Environmental Policy and Planning, Tennessee Valley Authority, 400 West Summit Hill Drive, WT 8C, Knoxville, Tennessee 37902-1499; telephone (865) 632-8051 or email blyeager@tva.gov.

SUPPLEMENTARY INFORMATION: In its most recent annual report to the Southeastern Electric Reliability Council, TVA projected continued growth in demand of total net energy (baseload) of approximately 2 percent annually through the year 2010. TVA currently estimates that it will need approximately 2,000 Gigawatt-hours (GWh) annually by 2005, and 5,000-15,000 additional GWh annually by 2010. Continued energy generation from BFN is a major component of TVA's generating assets, representing 8 percent of generating capacity and about 13 percent of annual energy generation in FY 2000. Because of its low operating costs, BFN will continue to be a key generating asset even if some TVA customers were to elect other suppliers for some of their requirements under energy deregulation.

TVA has decided to seek to extend operation of Units 1, 2, and 3 at its BFN site located in Limestone County, Alabama. This will require obtaining a renewal of the unit's operating licenses from the Nuclear Regulatory Commission (NRC). Renewal of the operating licenses would permit operation for an additional 20 years past the current (original) 40-year operating license terms which expire in 2013, 2014, and 2016, for Units 1, 2, and 3, respectively.

An earlier EIS prepared by TVA evaluated the effects on the environment of construction and operation of the three BFN units. The Atomic Energy Commission (AEC), a former regulatory agency of the federal government which has been superceded by the NRC, participated in the preparation of that EIS as a cooperating agency. The AEC concluded on August 28, 1972, that the statement was adequate to support the original proposed license to operate the plant. Much of this material from the earlier EIS is incorporated by reference in TVA's current FSEIS. The current FSEIS for license renewal also incorporates by reference TVA's Energy Vision 2020 Programmatic EIS, which documented TVA's consideration of the strategies and programmatic issues related to both maintenance of existing generation capacity in TVA's power system and the addition of new generating capacity. TVA's FSEIS also referenced in whole or in part, applicable material covered in the NRC's Generic Environmental Impact Statement for License Renewal of Nuclear Plants (GEIS), NUREG-1437.

Alternatives Considered

TVA considered three primary alternatives, i.e., No Action and two Action Alternatives. Reasonable alternatives ranged from ceasing operation altogether at BFN (when the current generating licenses expire) to maximizing utilization of the existing power production facilities at the BFN site by extending operation of all three units.

The No Action Alternative would result from a decision to not extend operation of the BFN units beyond the expiration dates of the current operating licenses. Since it currently appears economically infeasible to recover Unit 1 without license renewal, such a decision would effectively terminate any further consideration of restarting the unit at this time. Operation of Units 2 and 3 would cease upon expiration of their operating licenses in 2014 and 2016, respectively.

This No Action Alternative would not help meet the public demand for more energy from the TVA power system. If TVA took no action at all to meet growing demands, TVA's ability to continue to supply low cost, reliable power to the public would be impaired. The impacts of higher priced and undependable electric supplies would be manifested in customer hardship, potentially negatively affecting economic stability of the region served by TVA. Consequently it would be unreasonable for TVA to take no action at all to meet growing demands. Rather in this context, No Action means that TVA would turn to some other means of responding to energy demands on its power system (most likely obtaining power primarily from existing or newly constructed fossil-fuel-fired baseload sources). These means were assessed in TVA's Energy Vision 2020 EIS and are identified in the resource plans the TVA Board approved after completion of that EIS process.

Of the Action Alternatives, Alternative 1 was to continue to operate Units 2 and 3 at BFN for an additional 20-year period beyond the expiration dates of the current licenses. No major equipment changes were projected to be needed for continuing operation as-is, but some planned upgrades and additions would involve facilities modifications, such as extended power uprate (EPU) of Units 2 and 3 at 120 percent of originally licensed power level, as documented under other NEPA analyses. Due to the planned EPU of Units 2 and 3, a sixth mechanical draft cooling tower would be erected. This alternative would offset some, but not all, the potential need to obtain power from other sources as identified under the No Action alternative. It would entail some of the impacts associated with the No Action alternative, because of need to meet demand for power not covered by restart of Unit 1 (see Alternative 2).

Alternative 2 (TVA's preferred alternative and the alternative selected by the TVA Board) is to add refurbishment and restart of Unit 1 to Alternative 1 (i.e., extended operation of all three BFN units at the EPU level of 120 percent of the originally licensed power level). Restart of Unit 1 could occur as early as 2007. Unit 1 recovery would necessitate construction of a new administration building to make space available to incoming (temporary) workers and to move (permanent) office workers away from radiation sources associated with operating Unit 1 with hydrogen water chemistry.

Restarting Unit 1 under Alternative 2 would also require additional cooling tower capacity beyond that envisioned for Alternative 1. Sub-alternatives for necessary additional cooling tower capacity could be obtained through a combination of constructing new towers, refurbishing the old original cooling towers, or even dismantling and replacing one or more of the old original towers with an updated and more efficient design. Sub-alternatives assessed included:

• Sub-alternative 2A, the addition of two new linear mechanical draft cooling towers to the six that would be functional for operation of Units 2 and 3 at EPU, making a total of eight very similar cooling towers. Making room for these towers would require removal of most of a large hill which was created by excavation of drainage canals associated with construction of the original six cooling towers.

• Sub-alternative 2B, which is similar to 2A except that the two new cooling towers would be some type other than the current linear mechanical draft cooling towers, such as round mechanical draft or modified hyperbolic design.

• Sub-alternative 2C, which involves demolition of the remaining four original cooling towers and to construct five new large linear mechanical draft cooling towers, all in roughly the same location as the original six towers. The size of the existing (relatively new) tower 3 would also be increased. This alternative would not require removal of a significant portion of the spoils hill adjacent to the cooling towers, but could involve lowering the height of the hill by several feet to decrease wind resistance.

• Alternative 2D, the addition of a sixth mechanical draft cooling tower in the currently vacant position (4) where a tower was destroyed by an accidental fire in 1986, but never replaced. This additional sixth cooling tower would be similar to that identified for the uprate of Units 2 and 3 as described for Alternative 1. However, this tower would be somewhat larger than the recently replaced 16-cell linear mechanical draft cooling tower 3.

Even without license extension or Unit 1 restart, BFN requires expansion of spent fuel storage capacity as a result of DOE's delay in receiving utility spent fuel. The site's spent fuel pools are slowly being filled and Unit 3 will lose full core off-load capability in 2005. In response, TVA is planning to implement new spent fuel storage capacity during 2005 in order to avoid impacting availability of Unit 3.

Dry cask storage at BFN will consist of building a secured fenced-in concrete storage pad in phases or sections. The current schedule calls for being able to begin storing fuel in 2005. This project would be required with or without EPU, license renewal, or Unit 1 recovery, but the size requirement for the total pad storage depends in part on how many units will be operating. The pad will be designed large enough to accommodate all known requirements. The location for the new dry cask storage facility would require tearing down the existing Modifications Fabrications Building and replacement construction with a new light commercial grade building.

Environmental Consequences

Analyses conducted for the SEIS indicate that no significant impacts would be expected as a result of implementing any of the action alternatives considered. These findings are primarily a result of the fact that BFN is already an existing facility operating under an NRC license and that the proposed extension of unit operations and restart of Unit 1 result in relatively minor changes to those operations that have the potential for environmental effects.

Under the design, commitments and conditions described in the FSEIS for the project, there would be no effects to the geologic setting, threatened or endangered species, wetlands, soils, recreation, or cultural resources. With the exception of carbon monoxide emissions, the impacts for any of the alternatives on ambient air quality, meteorology and climate are expected to be even less than those assessed in the original BFN EIS. The ambient air quality standard for carbon monoxide is still five orders of magnitude greater than emission estimates, so the impact is also considered negligible.

Minor, insignificant effects (predominantly from modifications or currently ongoing activities that would proportionally extend in time with relicensing or slightly increase with restart of Unit 1) are anticipated for generation of solid and hazardous waste, spent fuel management, groundwater resources, floodplains/flood risk, terrestrial resources, socioeconomics conditions, transportation, land use, visual resources, and environmental noise, as well as public and occupational safety and health. Proper implementation of best management practices and compliance with applicable laws, regulations and Executive Orders will help ensure that these impacts are negligible. TVA does not anticipate any significant changes to the radioactive effluent releases or exposures to the public from continuing 2-unit BFN operations through completion of the license renewal period. EPU and the addition of Unit 1 would increase effluent releases proportionally, however, the refined calculated doses are a small fraction of the applicable radiological dose limits and the total exposures to the public from 3-unit operation at EPU are expected to remain a small fraction of the regulatory dose limits.

Under the alternative selected with best management practices implemented, impacts of modifications on surface waters and aquatic ecological resources are expected to be insignificant. Restart and operation of Unit 1 would require upgrading of the cooling tower system and an increase of intake flow rates by approximately 10 percent. Thermal impacts to aquatic life would be insignificant because the plant would be operated to ensure that the maximum discharge temperature and the temperature rise between intake and discharge remain within approved regulatory limits. Use of cooling towers would increase, and on rare occasions when the cooling towers are unable to meet thermal limits, the plant would be derated to remain in compliance. Although significant impacts are not anticipated, TVA will also confirm expected levels of impingement and entrainment resulting from increased intake flow rates by monitoring under current 2-unit operation and following return of Unit 1 to service.

Under the selected alternative, modifications associated with Unit 1 recovery would result in impacts on population, employment and income over a span of about 5.5 years. The total number of workers involved in the modification phase would peak at about 3,000, although not all these are likely to be located at the plant site. Modifications could result in some scattered, short-term strain on community services, including police and emergency services, schools and housing market. Operation of Unit 1 in addition to current operation of Units 2 and 3 will require an increase in employment of about 150 permanent workers, which would be a small addition to the local economy.

Under the alternative selected, decommissioning of the units would be delayed by the 20-year license renewal period, providing an opportunity for decommissioning technology (including more advanced robotics) and the licensing framework to evolve and mature. In addition it becomes more likely that a permanent spent fuel repository would be available prior to completion of decommissioning.

Response to Comments on Final EIS

Although not required, TVA provided 30 days for the public to comment on the FSEIS. During this period, comments regarding the FSEIS were received from the U.S. Environmental Protection Agency (EPA), the Alabama Department of Environmental Management (ADEM), and a member of the public who supported the proposed actions. TVA considered all comments received on both the draft and final SEIS in completing the NEPA process and reaching its decision. Discussed below are a number of the more important comments on the FSEIS.

Based upon review of the FSEIS, EPA had five concerns: (1) TVA's stated preference for Alternative 2 with its 2D cooling option appeared to EPA to be inconclusively presented in the FSEIS; (2) cooling option 2D selected in the FSEIS was not presented in the DSEIS (but EPA correctly noted that this was very similar to the cooling option in Alternative 1); (3) cooling capacity and thermal discharge modeling was preliminary at the DSEIS stage and specifically for 2D was not included until the FSEIS; (4) the proposed action would likely contribute to the thermal load of the downstream 303(d) segment of the Tennessee River listed for temperature and other pollutants of concern, and (5) cooling option 2D provides the lowest capacity cooling of the four presented cooling tower options and therefore would allow the hottest average thermal discharge.

ADEM commented that: the proposed action would likely contribute to the thermal loading of a 10 mile segment of the Tennessee River downstream of the BFN facility near the mouth of the Elk River and above Wheeler Dam. This segment has been identified as “impaired” on Alabama's 1998 and draft 2000 303(d) lists. One of the listed pollutants of concern for that segment is temperature. ADEM comments that because the segment is listed for temperature impairment, no additional thermal loading can be permitted until such time that a TMDL is developed or the stream is de-listed for temperature.

ADEM additionally noted that the current NPDES permit contains temperature limits based on a 316(a) demonstration that EPA approved in June 1977. This allows the plant to meet a relaxed temperature limit. ADEM commented that the NPDES permit can be re-opened and modified in the event ADEM determines through biological and/or water quality monitoring that more stringent limitations and/or monitoring requirements are necessary to ensure the protection and propagation of aquatic life in the Tennessee River.

ADEM stated that the impaired segment of the Tennessee River will be re-evaluated to determine whether the segment is impaired due to temperature and if so determined, then a TMDL will be developed. To facilitate that evaluation, ADEM expressed interest in receiving copies of TVA's water quality data, if not previously provided, as well as water quality models conducted as part of the Final SEIS.

With regard to the first EPA comment, the FSEIS stated on page 2-55 under the heading, The Preferred Alternative, that Alternative 2 was preferred by TVA and that sub-alternative 2D was the preferred option for additional cooling tower capacity.

At the time of release, the DSEIS presented a summary of preliminary modeling results indicating that opportunities existed to allow a reduced amount of additional cooling capacity and/or cooling tower operation in an environmentally acceptable manner. Given TVA's compliance with current thermal limits of the NPDES permit for BFN, there is no material difference between the potential thermal impacts to the environment among those cooling tower sub-alternatives presented in the DSEIS and Alternative 2D. In the event that thermal limits could not be maintained by operation of cooling towers (see further discussion below), compliance would typically be maintained by derating the plant.

As indicated in both the DSEIS and FSEIS, two-dimensional modeling analyses conducted to assess the potential thermal effects under worst case scenarios to the reservoir and 303(d) reach under the current NPDES permit conditions, do indicate a slight increase (0.4°F) in average reservoir water temperature in the 303(d) listed reach of Wheeler Reservoir for the proposed 3-unit operation (at uprated power levels) relative to the originally approved 3-unit operation. As discussed in the FSEIS, the impact of this projected worst case change on water resources in Wheeler Reservoir is expected to be insignificant. With the use of cooling towers and plant derates, if necessary, temperature effects are expected to be less in years of more typical hydrology and meteorology. ADEM intends to evaluate new information to determine if the listed section is still an impaired water body and, as appropriate, to develop a Total Maximum Daily Load (TMDL) for that section of the river. TVA will supply the data and information requested by ADEM and cooperate with ADEM regarding monitoring, evaluation of the listed stream reach and, if appropriate, development of a TMDL.

Currently, TVA operates cooling towers at BFN only when the water temperature of discharges approaches and presents the potential for exceeding an NPDES thermal limit. When this situation occurs, not all cooling towers are necessarily placed in service. To maximize the net generation of the plant, only those towers necessary to keep the water temperature below the thermal limits are operated. Thus, as long as derating is part of the operational strategy for maintaining the NPDES limits, there is no significant difference in the hottest average thermal discharge for any of the cooling tower sub-alternatives. Additionally, TVA is working towards improving its methods of predicting water temperatures in Wheeler Reservoir and optimizing the operation of the cooling system provided at BFN.

EPA also requested further clarification of the expected increase in intake flows necessary for Alternative 2 as reported in the DSEIS and the FSEIS. Further analyses of flow changes associated with the proposed actions following release of the DSEIS are as indicated in section 2.2.2 of the FSEIS; the expected increase in intake flows needed for Alternative 2 is 10 percent.

EPA requested clarification in the ROD concerning two noise related issues, i.e., (1) whether or not the 24-hour DNL for noise is also less than the EPA target of 55 DNL for Alternative 2D, as it was for Alternatives 2A, 2B, and 2C; and (2) whether or not the 24-hour DNLs for Alternative 2D are within FICON guidance (and therefore considered insignificant). If not, EPA suggested further consideration of using cooling fans with reduced noise emissions until consistent with FICON.

Table 4.3.19-1 of the FSEIS indicates Alternative 2D (the selected sub-alternative) has a 24-hour DNL of 53 dBA which produces an annual average DNL that is less than both HUD and EPA 24-hour DNL annual average guidelines even with the probable priority-of-use configuration for cooling towers. The 24-hour DNL for Alternative 2D is 1 dBA more than the 24-hour DNL for current operation and the increase is insignificant based on FICON recommendations. There are no significant noise consequences from Alternative 2D. However, paragraph 4.3.19.4 of the FSEIS would present a clearer picture if it first stated which alternatives are within FICON guidelines (2A, 2B, and 2D) and then discussed 2C which does not meet FICON guidelines for Paradise Shores.

Decision

On May 16, 2002, the TVA Board of Directors decided to adopt the preferred alternative (Alternative 2) to refurbish and restart BFN Unit 1, and to proceed with NRC license extensions for all three units at BFN. This decision took into account environmental considerations together with economic and technical aspects of the project. Proceeding with license extensions and Unit 1 restart is the best business decision for TVA and the Tennessee Valley in terms of power supply, power price, generation mix, return on investment, and avoidance of environmental impacts. This decision has the three-fold benefits of assuring future power supplies without the environmental effects resulting from operation of fossil fuel generating plants (including increased emissions of greenhouse gases), avoiding the even larger capital outlays associated with new construction, and avoiding the environmental impacts resulting from siting and construction of new power generating facilities. Additionally, TVA's Detailed Scoping, Estimating, and Planning project and the Final Supplemental Environmental Impact Statement conclude that Browns Ferry Unit 1 can be returned to safe operation in a well-controlled modifications effort and that operating the unit will have no significant, adverse impacts on the environment.

With regard to cooling tower sub-alternatives, sub-alternative 2D was selected as the cooling tower option that was both protective of the environment and best supported by economic analyses. This decision regarding cooling tower capacity was reached on the basis of consideration of current regulatory thermal limits for BFN, cooling capacities of the various tower sub-alternatives, computer modeling of the effects of cooling tower options on ability to meet those thermal limits, and estimated amounts and cost of plant derates required for each sub-alternative.

Environmentally Preferred Alternative

TVA has concluded that Alternative 2 is the environmentally preferable alternative. This alternative has the benefits of assuring future power supplies without relying upon fossil fuel generation and its associated environmental impacts, avoiding the environmental impacts resulting from siting and construction of new power generating facilities, and providing an opportunity for decommissioning technology (including more advanced robotics) and the licensing framework to evolve and mature. With regard to sub-alternatives for thermal cooling capacity, cooling towers are operated only as necessary to meet thermal discharge temperature limits. Given TVA's compliance with current thermal limits of the NPDES permit for BFN, and because of the way the plant operates when near the thermal limits, there is no material environmental difference between cooling tower alternatives, and one alternative is not clearly environmentally preferable compared to the other alternatives. Having greater cooling tower capacity would be environmentally preferable in the event of any extraordinary circumstances in which the permit limits could not be maintained.

Environmental Commitments

The FSEIS identifies appropriate measures to minimize or mitigate environmental impacts and these are being adopted here. These measures are generally of two types, i.e., physical changes incorporated during project design, modifications or construction, and programs and environmental controls initiated to meet regulatory standards.

• Mitigation measures to minimize potential air pollutant emissions during construction activities for the new Administration Building, the Modifications Fabrication Building, the dry cask storage facility, and the new cooling tower would be the best management practices that TVA uses for construction of any new facilities. These would include such measures as wetting ground surfaces as appropriate to reduce fugitive dust, requiring equipment and trucks to be well maintained and tuned for efficient fuel combustion, covering fuels and fueling connections to minimize evaporative losses and requiring contractors to adhere to such policies.

• TVA will confirm the expected levels of impingement and entrainment of fish by monitoring under current 2-unit operation and following return of Unit 1 to service. Although not expected, if based upon these monitoring studies it is determined that the location, design, construction, and capacity of the cooling water intake structure are causing unacceptable environmental impact, TVA will assess reasonable available/achievable technologies, operational measures and restoration measures to further minimize the adverse impact at the BFN site and institute those measures which in consultation with the permitting agencies are determined to be appropriate.

• The archaeological site identified in Spoils Disposal Area 1, along with an adequate buffer zone, would be excluded from the disposal area or Phase II testing would be conducted to confirm the significance of the site.

• TVA will further analyze several options for mitigating the potential noise increase at Paradise Shores prior to accepting the final design for the additional cooling tower from the selected vendor. Options include, but are not limited to: using low noise fans on the new cooling tower; instituting operational instructions to reduce noise; and soliciting other noise reduction options from the cooling tower vendor.

Dated: May 24, 2002.
John A. Scalice,
Chief Nuclear Officer and Executive Vice President, TVA Nuclear.

[FR Doc. 02-15276 Filed 6-17-02; 8:45 am]

BILLING CODE 8120-08-P